DEPARTMENT OF COMMERCE

National Oceanic and Atmospheric Administration

[I.D. 041900D]

Endangered Species; Permits

AGENCY: National Marine Fisheries Service (NMFS), National Oceanic and Atmospheric Administration (NOAA), Commerce.

ACTION: Issuance of a scientific research permit (1227) and modifications to existing permits (1136, 1141).

SUMMARY: Notice is hereby given of the following actions regarding permits for takes of endangered and threatened species for the purposes of scientific research and/or enhancement:

NMFS has issued a permit to Dr. Peter Dutton, of NMFS' Southwest Fisheries Science Center (PD-SWFSC) (1227); and NMFS has issued modifications to scientific research permits to the Oregon Cooperative Fishery and Wildlife Research Unit at Corvallis, OR (OCFWRU) (1136) and Public Utility District No. 2 of Grant County at Ephrata, WA (GCPUD) (1141).

ADDRESSES: The applications, permits, and related documents are available for review in the indicated office, by appointment:

For permits 1136 and 1141: Protected Resources Division, F/NWO3, 525 NE Oregon Street, Suite 500, Portland, OR 97232-2737 (ph: 503-230-5400, fax: 503-230-5435).

For permit 1227: Office of Protected Resources, Endangered Species Division, F/PR3, 1315 East-West Highway, Silver Spring, MD 20910 (ph: 301-713-1401, fax: 301-713-0376).

Documents may also be reviewed by appointment in the Office of Protected Resources, F/PR3, NMFS, 1315 East-West Highway, Silver Spring, MD 20910-3226 (301-713-1401).

FOR FURTHER INFORMATION CONTACT: For permit 1227: Terri Jordan, Silver Spring, MD (ph: 301-713-1401, fax: 301-713-0376, e-mail: Terri.Jordan@noaa.gov).

For permits 1136 and 1141: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

All statements and opinions contained in the permit action summaries are those of the applicant and do not necessarily reflect the views of NMFS.

Species Covered in this Notice

The following species, runs, and evolutionarily significant units (ESU's) are covered in this notice:

Sea Turtles

Endangered leatherback turtle (Dermochelys coriacea).

Fish

Chinook salmon (Oncorhynchus tshawytscha): Threatened Snake River (SnR) fall, threatened SnR spring/summer, endangered upper Columbia River (UCR) spring.

Sockeye salmon (O. nerka): Endangered SnR.

Steelhead (O. mykiss): Endangered UCR.

Permits and Modifications Issued

Notice was published on April 26, 1999 (64 FR 20266), that OCFWRU had applied for a modification to permit 1136. Modification 1 to permit 1136 was issued on April 13, 2000, and authorizes OCFWRU to capture fish at two additional locations: Little Goose Dam on the Snake River and John Day Dam on the Columbia River. Modification 1 also authorizes OCFWRU annual takes of juvenile naturally produced and artificially propagated UCR spring chinook salmon. Lethal take and indirect mortalities of juvenile naturally produced and artificially propagated UCR spring chinook salmon associated with the research are also authorized. A second notice of receipt was published on May 13, 1999 (64 FR 25873) because NMFS had received an amended modification request seeking an increase in the annual take of ESA-listed fish associated with the research. The additional take is authorized to accommodate expected increased abundance of some species in 1999. Modification 1 is valid for the duration of permit 1136, which expires on December 31, 2000.

Notice was published on March 25, 1999 (64 FR 14432), that GCPUD had applied for a modification to scientific research permit 1141. Modification 1 to permit 1141 was issued on May 5, 1999 (64 FR 25873) but did not include annual takes of UCR spring chinook salmon. Permit 1141 authorizes GCPUD annual takes of adult and juvenile naturally produced and artificially propagated UCR steelhead associated with four scientific research studies at or in the vicinity of Wanapum and Priest Rapids Dams located on the upper Columbia River in Washington. The purpose of Study 1 is to monitor outmigrating adult and juvenile steelhead condition, survival, and travel time relative to spill effectiveness at the dams. The purpose of Study 2 is to substantiate and document hydroacoustic accuracy at Wanapum Dam. The purpose of Study 3 is to evaluate the relative abundance of the fish fauna inhabiting the Priest Rapids project area. The purpose of Study 4 is to assess the survival of juvenile, artificially propagated, UCR steelhead as they migrate past Wanapum and Priest Rapids Dams. Notice is hereby given that NMFS issued an amendment to permit 1141 on April 13, 2000. The permit amendment authorizes GCPUD annual takes of adult and juvenile naturally produced and artificially propagated UCR spring chinook salmon associated with Studies 1 and 3. The permit amendment also authorizes the take of ESA-listed salmon and steelhead associated with Study 3 annually for the duration of the permit. The amendment is valid for the duration of permit 1141, which expires on December 31, 2002.

Notice was published on October 22, 1999 (64 FR 57069), that PD-SWFSC had applied for a scientific research permit. Permit 1227 was issued on April 18, 2000, and authorizes takes of leatherback turtles in Monterey Bay, CA as part of a stock identification and movement study. Permit 1227 expires on December 31, 2002.

Dated: April 23, 2000.
Wanda L. Cain,
Chief, Endangered Species Division, Office of Protected Resources, National Marine Fisheries Service.

[FR Doc. 00-10796 Filed 4-28-00; 8:45 am]

BILLING CODE 3510-22-F